INTERNATIONAL TRADE COMMISSION

[Investigation No. 731-TA-917 (Final)]

Stainless Steel Bar From Taiwan

AGENCY: United States International Trade Commission.

ACTION: Termination of investigation.

SUMMARY: On January 23, 2002, the Department of Commerce published notice in the Federal Register (67 FR 3152) of a negative final determination of sales at less than fair value in connection with the subject investigation. Accordingly, pursuant to § 207.40(a) of the Commission's Rules of Practice and Procedure (19 CFR 207.40(a)), the antidumping investigation concerning stainless steel bar from Taiwan (investigation No. 731-TA-917 (Final)) is terminated.

EFFECTIVE DATE: January 23, 2002.

FOR FURTHER INFORMATION CONTACT: Larry Reavis (202-205-3185), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server, http://www.usitc.gov. The public record for this investigation may be viewed on the Commission's electronic docket (EDIS-ON-LINE) at http://dockets.usitc.gov/eol/public.

Authority: This investigation is being terminated under authority of title VII of the Tariff Act of 1930; this notice is published pursuant to section 201.10 of the Commission's rules (19 CFR 201.10).

By order of the Commission.
Issued: January 25, 2002.
Marilyn R. Abbott,
Acting Secretary.

[FR Doc. 02-2304 Filed 1-30-02; 8:45 am]

BILLING CODE 7020-02-P